DEPARTMENT OF COMMERCE

International Trade Administration

[C-533-825]

Polyethylene Terephthalate Film, Sheet, and Strip From India: Extension of Time Limit for Preliminary Results of Countervailing Duty Administrative Review

AGENCY: Import Administration, International Trade Administration, Department of Commerce.

DATES: Effective Date: March 4, 2005.

FOR FURTHER INFORMATION CONTACT: Jeff Pedersen or Sam Zengotitabengoa, AD/CVD Operations, Office 4, Import Administration, International Trade Administration, U.S. Department of Commerce, 14th Street and Constitution Avenue, NW., Washington, DC 20230; telephone: (202) 482-2769 or (202) 482-4195, respectively.

Background

On August 30, 2004, the Department of Commerce (the Department) published a notice of initiation of administrative review of the countervailing duty order on polyethylene terephthalate film, sheet, and strip (PET film) from India covering the period from January 1, 2003, through December 31, 2003. See Initiation of Antidumping and Countervailing Duty Administrative Reviews and Requests for Revocation in Part, 69 FR 52857 (August 30, 2004). The preliminary results are currently due no later than April 2, 2005.

Statutory Time Limits

Section 751(a)(3)(A) of the Tariff Act of 1930, as amended (the Act), requires the Department to make a preliminary determination within 245 days after the last day of the anniversary month of the date of publication of the order for which a review is requested and a final determination within 120 days after the date on which the preliminary determination is published. However, if it is not practicable to complete the review within this time period, section 751(a)(3)(A) of the Act allows the Department to extend the time limit for the preliminary determination to a maximum of 365 days and the time limit for the final determination to 180 days (or 300 days if the Department does not extend the time limit for the preliminary determination) from the date of publication of the preliminary determination.

Extension of Time Limit for Preliminary Results of Review

The Department finds that it is not practicable to complete the preliminary results in this countervailing duty administrative review of PET film from India within the 245-day statutory time frame because additional time is needed to fully analyze a new subsidy allegation submitted by the petitioner in this review, new subsidy programs, and submissions from a new respondent, as well as to conduct the verifications of the questionnaire responses of the respondents in this administrative review.

Therefore, in accordance with section 751(a)(3)(A) of the Act, the Department is extending the time limit for completion of the preliminary results of this review until no later than August 1, 2005, which is the next business day after 365 days from the last day of the anniversary month of the date of publication of the order. The deadline for the final results of this administrative review continues to be 120 days after the publication of the preliminary results.

This notice is issued and published in accordance with section 751(a)(3)(A) of the Act.

Dated: February 28, 2005.
Barbara E. Tillman,
Acting Deputy Assistant Secretary for Import Administration.

[FR Doc. E5-902 Filed 3-3-05; 8:45 am]

BILLING CODE 3510-DS-P